DEPARTMENT OF HOMELAND SECURITY

Coast Guard

33 CFR Part 117

[Docket No. USCG-2016-0890]

Drawbridge Operation Regulation; Red River, Alexandria, LA

AGENCY: Coast Guard, DHS.

ACTION: Notice of deviation from drawbridge regulations.

SUMMARY: The Coast Guard has issued a temporary deviation from the operating schedule that governs the US 165 (Jackson Street) Drawbridge across the Red River, mile 88.6, at Alexandria, Louisiana. The deviation is necessary to allow the bridge owner time to adjust the new pinion bearings that are essential to the continued safe operation of the drawbridge. This deviation allows the bridge to remain in the closed-to-navigation position.

DATES: This deviation is effective without actual notice from September 22, 2016 until 6 p.m., September 30, 2016. For the purposes of enforcement, actual notice will be used from 6 a.m. to 6 p.m., each day, from September 26, 2016 until September 30, 2016.

ADDRESSES: The docket for this deviation, (USCG-2016-0890) is available at http://www.regulations.gov. Type the docket number in the “SEARCH” box and click “SEARCH.” Click on Open Docket Folder on the line associated with this deviation.

FOR FURTHER INFORMATION CONTACT: If you have questions on this temporary deviation, call or email Eric A. Washburn, Bridge Administrator, Western Rivers, Coast Guard; telephone 314-269-2378, email Eric.Washburn@uscg.mil.

SUPPLEMENTARY INFORMATION: The Louisiana Department of Transportation and Development requested a temporary deviation for the US 165 (Jackson Street) Drawbridge, across the Red River, mile 88.6, at Alexandria, Louisiana. It has a vertical clearance of 40.0 feet above normal pool in the closed-to-navigation position. The US 165 (Jackson Street) Drawbridge currently operates in accordance with 33 CFR 117.491(b).

This deviation period is from 6 a.m. to 6 p.m., each day, from September 26, 2016 to September 30, 2016 when the draw span will remain in the closed-to-navigation position. During this time the bridge owner will adjust the new pinion bearings that are essential to the continued safe operation of the drawbridge. Navigation on the waterway consists primarily of commercial tows and recreational watercraft and will not be significantly impacted. This temporary deviation has been coordinated with waterway users. No objections were received.

The bridge will not be able to open for emergencies and there is no immediate alternate route for vessels to pass this section of the Red River. The Coast Guard will also inform the users of the waterway through our Local and Broadcast Notices to Mariners of the change in operating schedule for the bridge so the vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 16, 2016.
Eric A. Washburn,
Bridge Administrator, Western Rivers.

[FR Doc. 2016-22822 Filed 9-21-16; 8:45 am]

BILLING CODE 9110-04-P